DEPARTMENT OF DEFENSE

Department of the Navy

Notice of Intent To Grant Exclusive Patent License; NaturalNano, Inc.

AGENCY: Department of the Navy, DoD.

ACTION: Notice.

SUMMARY: The Department of the Navy hereby gives notice of its intent to grant to NaturalNano, Inc., a revocable, nonassignable, exclusive license to practice in the fields of use in Electromagnetic Shielding; Strength Enhancement; Cosmetics; Odor Masking; Eluting Implantable Medical Devices; Visibility Enhanced Implantable Medical Devices; Eluting Bandages; Local Drug Delivery; Agricultural; Vertebrate Aversion; Veterinary; Ink and Paper; Electronics; Fabrics and Textiles; all other fields of use specifically excluding: Halloysite in Building Materials and Petroleum; and Paint in the United States and certain foreign countries, the Government-owned inventions described in U.S. Patent No. 4,877,501: Process for Fabrication of Lipid Microstructures, Navy Case No. 70,173.//U.S. Patent No. 4,911,981: Metal Clad Lipid Microstructures, Navy Case No. 70,238.//U.S. Patent No. 5,049,382: Coating and Composition Containing Lipid Microstructure Toxin Dispensers, Navy Case No. 71,593.//U.S. Patent No. 5,492,696: Controlled Release Microstructures, Navy Case No. 76,896.//U.S. Patent No. 5,651,976: Controlled Release of Active Agents Using Inorganic Tubules, Navy Case No. 76,652.//U.S. Patent No. 5,705,191: Sustained Delivery of Active Compounds from Tubules With Rational Control, Navy Case No. 77,037.//U.S. Patent No. 6,013,206: Process for the Formation of High Aspect Ratio Lipid Microtubules, Navy Case No. 79,038.//U.S. Patent No. 6,280,759: Method of Controlled Release and Controlled Release Microstructures, Navy Case No. 78,215.//U.S. Patent Application Serial No. 10/353,952: Microwave-Attenuating Composite Materials, Methods for Preparing the Same, Intermediates for Preparing the Same, Devices Containing the Same, Methods of Preparing Such a Device, and Methods of Attenuating Microwaves, Navy Case No. 83,273.//U.S. Patent Application Serial No. 10/863,848: Waterborne Coating Containing Microcylindrical Conductors and Non-Conductive Space Filling Latex Polymers, Navy Case No. 84,828 and any continuations, divisionals or re-issues thereof.

DATES: Anyone wishing to object to the grant of this license must file written objections along with supporting evidence, if any, not later than October 11, 2006.

ADDRESSES: Written objections are to be filed with the Naval Research Laboratory, Code 1004, 4555 Overlook Avenue, SW., Washington, DC 20375-5320.

FOR FURTHER INFORMATION CONTACT: Head, Technology Transfer Office, NRL Code 1004, 4555 Overlook Avenue, SW., Washington, DC 20375-5320, telephone 202-767-7230. Due to U.S. Postal delays, please fax 202-404-7920, e-mail: techtran@utopia.nrl.navy.mil or use courier delivery to expedite response.

(Authority: 35 U.S.C. 207, 37 CFR Part 404.)

Dated: September 19, 2006.
M. A. Harvison,
Lieutenant Commander, Judge Advocate General's Corps, U.S. Navy, Federal Register Liaison Officer.

[FR Doc. E6-15705 Filed 9-25-06; 8:45 am]

BILLING CODE 3810-FF-P